SECURITIES AND EXCHANGE COMMISSION

[Release No. 34-63609; File No. SR-NYSEArca-2010-116]

Self-Regulatory Organizations; NYSE Arca, Inc.; Notice of Filing of Proposed Rule Change Relating to the Listing and Trading of the WisdomTree Asia Bond Fund

December 27, 2010.

Correction

In notice document 2010-32943 beginning on page 194 the issue of Monday, January 3, 2011 make the following correction:

On page 199, in the third column, in the last line before the signature block, “January 18, 2011” should read “January 24, 2011”.

[FR Doc. C1-2010-32943 Filed 1-14-11; 8:45 am]

BILLING CODE 1505-01-D